NUCLEAR REGULATORY COMMISSION

[Docket No. 40-8905]

Notice of Receipt of Mill Demolition Plan for Rio Algom Mining LLC's Ambrosia Lake Uranium Mill Facility, New Mexico, and Opportunity to Provide Comments and to Request a Hearing

I. Introduction

The Nuclear Regulatory Commission (NRC) has received, by letter dated December 10, 2002, a proposed mill demolition plan for the removal of the mill located at Rio Algom Mining Limited Liability Corporation's uranium mill facility at Ambrosia Lake, New Mexico. In accordance with License Condition #29 of NRC Source Materials License, SUA-1473, the mill demolition plan describes the demolition of the structural features associated with the Ambrosia Lake uranium mill facility. The plan addresses the removal of surface structures in preparation for subsequent implementation of the surface reclamation release phase of the overall site decommission process.

II. Opportunity to Provide Comments

The NRC is providing notice to individuals in the vicinity of the facility that the NRC is in receipt of this request, and will accept comments concerning this action within 30 days of the publication of this notice in the Federal Register. The comments may be provided to the Chief, Rules and Directives Branch, Division of Administrative Services, Office of Administration, U.S. Nuclear Regulatory Commission, Washington, DC 20555-0001, and should cite the publication date and page number of this Federal Register notice. Written comments may also be delivered to Room T-6 D59, Two White Flint North, 11545 Rockville Pike, Rockville, MD 20852, from 7:30 a.m. until 4:15 p.m. on Federal workdays.

III. Opportunity to Request a Hearing

The NRC hereby provides notice that this is a proceeding on an application for an amendment of a license falling within the scope of subpart L, “Informal Hearing Procedures for Adjudications in Materials and Operator Licensing Proceedings” of NRC's rules and practice for domestic licensing proceedings in 10 CFR part 2. Whether or not a person has or intends to provide comments as set out in Section II above, pursuant to § 2.1205(a), any person whose interest may be affected by this proceeding may file a request for a hearing in accordance with § 2.1205(d). A request for a hearing must be filed within 30 days of the publication of this Federal Register notice.

The request for a hearing must be filed with the Office of the Secretary, either:

(1) By delivery to the Rulemaking and Adjudications Staff of the Office of the Secretary of the Commission at One White Flint North, 11555 Rockville Pike, Rockville, MD 20852; or

(2) By mail or telegram addressed to the Secretary, U.S. Nuclear Regulatory Commission, Washington, DC 20555, Attention: Rulemaking and Adjudications Staff. Because of continuing disruptions in the delivery of mail to United States Government offices, it is requested that requests for hearing also be transmitted to the Secretary of the Commission either by means of facsimile transmission to 301-415-1101, or by e-mail to hearingdocket@nrc.gov.

In accordance with 10 CFR 2.1205(f), each request for a hearing must also be served, by delivering it personally or by mail, to:

(1) The applicant, Rio Algom Mining Limited Liability Corporation, 6305 Waterford Blvd., Suite 400, Oklahoma City, OK 73118, Attention: W. Paul Goranson; and

(2) The NRC staff, by delivery to the General Counsel, One White Flint North, 11555 Rockville Pike, Rockville, MD 20852, or by mail addressed to the Office of the General Counsel, U.S. Nuclear Regulatory Commission, Washington, DC 20555. Because of continuing disruptions in the delivery of mail to United States Government offices, it is requested that requests for hearing also be transmitted to the Office of the General Counsel, either by means of facsimile transmission to 301-415-3725, or by email to OGCMailCenter@nrc.gov.

In addition to meeting other applicable requirements of 10 CFR part 2 of the NRC's regulations, a request for a hearing filed by a person other than an applicant must describe in detail:

(1) The interest of the requestor;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

IV. Further Information

The application for the license amendment and proposed decommissioning and reclamation plan are available for inspection at NRC's Public Electronic Reading Room at http://www.nrc.gov/reading-rm/adams.html [ADAMS Accession Number ML030070154]. Documents may also be examined and/or copied for a fee, at the NRC's Public Document Room, located at One White Flint North, 11555 Rockville Pike, Rockville, MD 20852. Any questions with respect to this action should be referred to Jill Caverly, Fuel Cycle Facilities Branch, Division of Fuel Cycle Safety and Safeguards, Office of Nuclear Material Safety and Safeguards, U.S. Nuclear Regulatory Commission, Mail Stop T8-A33, Washington, DC 20555-0001. Telephone: (301) 415-6699, Fax: (301) 415-5390.

Dated at Rockville, Maryland, this _16th day of January 2003.
For the U.S. Nuclear Regulatory Commission:
Daniel M. Gillen
Chief, Fuel Cycle Facilities Branch, Division of Fuel Cycle Safety and Safeguards, Office of Nuclear Material Safety and Safeguards.

[FR Doc. 03-1638 Filed 1-23-03; 8:45 am]

BILLING CODE 7590-01-P